COUNCIL OF THE INSPECTORS GENERAL ON INTEGRITY AND EFFICIENCY

Privacy Act of 1974; System of Records

AGENCY: Council of the Inspectors General on Integrity and Efficiency (CIGIE).

ACTION: Notice of a new system of records.

SUMMARY: CIGIE proposes to establish a system of records that is subject to the Privacy Act of 1974. CIGIE proposes this system of records to more efficiently track records in furtherance of its statutory mandate to maintain one or more academies for the professional training of auditors, inspectors, evaluators, and other personnel of the various offices of Inspector General per the Inspector General Act of 1978, as amended.

DATES: This proposal will be effective without further notice on April 28, 2022 unless comments are received that would result in a contrary determination.

ADDRESSES: Submit comments identified by “CIGIE-7” by any of the following methods:

1. Mail: Council of the Inspectors General on Integrity and Efficiency, 1717 H Street NW, Suite 825, Washington, DC 20006. ATTN: Atticus Reaser/CIGIE-7, Notice of New System of Records.

2. Email: comments@cigie.gov.

FOR FURTHER INFORMATION CONTACT: Atticus Reaser, General Counsel, Council of the Inspectors General on Integrity and Efficiency, (202) 292-2600 or comments@cigie.gov.

SUPPLEMENTARY INFORMATION: In 2008, Congress established CIGIE as an independent entity within the executive branch in order to address integrity, economy, and effectiveness issues that transcend individual Government agencies; and increase the professionalism and effectiveness of personnel by developing policies, standards, and approaches to aid in the establishment of a well-trained and highly skilled workforce in the offices of the Inspector General. CIGIE's membership is comprised of all Inspectors General whose offices are established under the Inspector General Act of 1978, as amended, 5 U.S.C. app (IG Act), as well as the Controller of the Office of Federal Financial Management, a designated official of the Federal Bureau of Investigation (FBI), the Director of the Office of Government Ethics, the Special Counsel of the Office of Special Counsel, the Deputy Director of the Office of Personnel Management, the Deputy Director for Management of the Office of Management and Budget (OMB), and the Inspectors General of the Office of the Director of National Intelligence, Central Intelligence Agency, Library of Congress, Capitol Police, Government Publishing Office, Government Accountability Office, and the Architect of the Capitol. The Deputy Director for Management of OMB serves as the Executive Chairperson of CIGIE.

The new system of records described in this notice, the Training Institute and Education Records System (CIGIE-7), will enable CIGIE to more efficiently track training records associated with those who seek, receive, or provide training through CIGIE. In accordance with 5 U.S.C. 552a(r), CIGIE has provided a report of this new system of records to the OMB and to Congress. The new system of records reads as follows:

SYSTEM NAME AND NUMBER:

Training Institute and Education Records System (TIERS)—CIGIE-7.

SECURITY CLASSIFICATION:

Unclassified.

SYSTEM LOCATION:

The location of paper records contained within the TIERS is at one or both of the following locations: (1) The headquarters of the Council of the Inspectors General on Integrity and Efficiency (CIGIE), currently located at 1717 H Street NW, Suite 825, Washington, DC 20006; or (2) The CIGIE Inspector General Criminal Investigator Academy, Federal Law Enforcement Training Center (FLETC), currently located at 384 Marana Circle, Glynco, GA 31524. Records maintained in electronic form are principally located in contractor-hosted data centers in the United States. Contact the System Manager identified below for additional information.

SYSTEM MANAGER(S):

Executive Director of the Training Institute, CIGIE, 1717 H Street NW, Suite 825, Washington, DC 20006, (202) 292-2600, cigie.information@cigie.gov.

AUTHORITY FOR MAINTENANCE OF THE SYSTEM:

Section 11 of the Inspector General Act of 1978, as amended, 5 U.S.C. app. (IG Act); 5 U.S.C. 301; 44 U.S.C. 3101.

PURPOSE(S) OF THE SYSTEM:

To carry out CIGIE's responsibilities to maintain one or more academies for the professional training of auditors, inspectors, evaluators, and other personnel of the various offices of Inspector General under the IG Act.

CATEGORIES OF INDIVIDUALS COVERED BY THE SYSTEM:

This system contains records on current, former, and prospective students who enroll in a training course offered by CIGIE or training that is offered by another entity when such enrollment is facilitated by CIGIE, including, but not limited to, FLETC enrollment and enrollment in accredited courses at public and private colleges, universities, and other entities providing educational and training services. Such students include individuals from: Federal Government agencies; member entities of CIGIE; state, local, and tribal governments; and the private sector. This system also contains records on current, former, and prospective instructors and others who facilitate CIGIE training and training coordinated by CIGIE.

CATEGORIES OF RECORDS IN THE SYSTEM:

The system maintains records that contribute to the operation of one or more CIGIE academies for the professional training of auditors, inspectors, evaluators, and other personnel of the various offices of Inspector General. Such records may contain identifying information including but not necessarily limited to: Name; date of birth; Social Security number and/or a unique student identification number; email address, telephone number, and/or other contact information; and position title. Records in the system may also include other information associated with such identifying information, including but necessarily limited to: Course name and number; grade earned or other indicator of level of performance demonstrated; continuing professional education credits earned; CIGIE academy providing the training; event date(s); agency affiliation; supervisor name and contact information; agency billing information; survey questions and responses to survey questions; help requests; and CIGIE resource utilization information.

RECORD SOURCE CATEGORIES:

Federal Government agencies; member entities of CIGIE; individuals providing information about themselves; state, local, and tribal governments; and private sector entities.

ROUTINE USES OF RECORDS MAINTAINED IN THE SYSTEM, INCLUDING CATEGORIES OF USERS AND PURPOSES OF SUCH USES:

In addition to those disclosures generally permitted under 5 U.S.C. 552a(b), all or portions of the records or information contained in this system may specifically be disclosed outside of CIGIE as a routine use pursuant to 5 U.S.C. 552a(b)(3) as follows:

A. To a Member of Congress in response to an inquiry from that Member made at the request of the individual. In such cases, however, the Member's right to a record is no greater than that of the individual.

B. If the disclosure of certain records to the Department of Justice (DOJ) is relevant and necessary to litigation, CIGIE may disclose those records to the DOJ. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

C. If disclosure of certain records to a court, adjudicative body before which CIGIE is authorized to appear, individual or entity designated by CIGIE or otherwise empowered to resolve disputes, counsel or other representative, party, or potential witness is relevant and necessary to litigation, CIGIE may disclose those records to the court, adjudicative body, individual or entity, counsel or other representative, party, or potential witness. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

D. To the appropriate Federal, state, local, tribal, or foreign agency responsible for investigating, prosecuting, enforcing, or implementing a statute, rule, regulation, or order, if the information is relevant to a violation or potential violation of civil or criminal law or regulation within the jurisdiction of the receiving entity.

E. To officials and employees of any Federal Government or CIGIE member entity to the extent the record contains information that is relevant to that entity's decision concerning the hiring, appointment, or retention of an employee; issuance of a security clearance; execution of a security or suitability investigation; or classification of a job.

F. To the National Archives and Records Administration (NARA) pursuant to records management inspections being conducted under the authority of 44 U.S.C. 2904 and 2906.

G. To contractors, grantees, consultants, volunteers, or other individuals performing or working on a contract, interagency agreement, service, grant, cooperative agreement, job, or other activity for CIGIE and who have a need to access the information in the performance of their duties or activities for CIGIE.

H. To appropriate agencies, entities, and persons when: CIGIE suspects or has confirmed that there has been a breach of the system of records; CIGIE has determined that as a result of the suspected or confirmed breach there is a risk of harm to individuals, CIGIE (including its information systems, programs, and operations), the Federal Government, or national security; and the disclosure made to such agencies, entities, and persons is reasonably necessary to assist in connection with CIGIE's efforts to respond to the suspected or confirmed breach or to prevent, minimize, or remedy such harm.

I. To another Federal agency or Federal entity, when: CIGIE determines that information from this system of records is reasonably necessary to assist the recipient agency or entity in responding to a suspected or confirmed breach; or preventing, minimizing, or remedying the risk of harm to individuals, the recipient agency or entity (including its information systems, programs, and operations), the Federal Government, or national security, resulting from a suspected or confirmed breach.

J. To Federal agencies and independent certified public accounting firms that have a need for the information in order to audit the financial statements of CIGIE.

K. To an organization or an individual in the public or private sector if there is reason to believe the recipient is or could become the target of a particular criminal activity or conspiracy, or to the extent the information is relevant to the protection or life or property.

L. To officials of CIGIE, as well as CIGIE members and their employees, who have need of the information in the performance of their duties.

M. To the Office of Personnel Management (OPM) in accordance with OPM's responsibility for evaluation and oversight of Federal personnel management.

N. To appropriate agencies, entities, and persons, to the extent necessary to respond to or refer correspondence.

O. To entities providing educational or training related services including, but not limited to, FLETC, other Federal entities, and accredited public and private colleges and universities, to the extent necessary to enroll students in courses at such entities and to facilitate instruction led by CIGIE provided instructors at such entities.

POLICIES AND PRACTICES FOR RETRIEVAL OF RECORDS:

These records are retrieved by the name or other programmatic identifier assigned to the individuals on whom the records are maintained.

POLICIES AND PRACTICES FOR RETENTION AND DISPOSAL OF RECORDS:

The information is retained and disposed of in accordance with the General Records Schedule and/or the CIGIE records schedule applicable to the record and/or otherwise required by the Federal Records Act and implementing regulations.

ADMINISTRATIVE, TECHNICAL AND PHYSICAL SAFEGUARDS:

Paper records are located in locked file storage areas or in specified areas to which only authorized personnel have access. Electronic records are protected from unauthorized access through password identification procedures, limited access, firewalls, and other system-based protection methods.

RECORD ACCESS PROCEDURES:

Individuals seeking notification and access to any record contained in this system of records, or seeking to contest its content, may inquire in writing to the System Manager listed above. CIGIE has published a rule, entitled “Privacy Act Regulations,” to establish its procedures relating to access, maintenance, disclosure, and amendment of records which are in a CIGIE system of records per the Privacy Act, promulgated at 5 CFR part 9801 (https://www.ecfr.gov/cgi-bin/text-idx?SID=c3344b4e456f682fe915c0e982f8ce94&mc=true&tpl=/ecfrbrowse/Title05/5cfr9801_main_02.tpl).

CONTESTING RECORD PROCEDURES:

See “Records Access Procedures” above.

NOTIFICATION PROCEDURES:

See “Records Access Procedures” above.

EXEMPTIONS PROMULGATED FOR THE SYSTEM:

None.

HISTORY:

N/A.

Dated: March 24, 2022.
Allison C. Lerner,
Chairperson of the Council of the Inspectors General on Integrity and Efficiency.

[FR Doc. 2022-06610 Filed 3-28-22; 8:45 am]

BILLING CODE 6820-C9-P